DEPARTMENT OF THE TREASURY

Open Meeting of the Advisory Committee on the Ten-Year Framework for Energy and Environment

AGENCY: Office of the Special Envoy to China and the SED, Department of the Treasury.

ACTION: Notice of meeting.

SUMMARY: The Department of Treasury's Advisory Committee on the Ten-Year Framework for Energy and Environment will convene its first meeting on Thursday, January 15, 2009, in the Large Conference Room of the main Department Building, 1500 Pennsylvania Avenue, NW., Washington, DC, beginning at 2:30 p.m. Eastern Time. The meeting will be open to the public.

DATES: The meeting will be held on Thursday, January 15, 2009 at 2:30 p.m. Eastern Time.

ADDRESSES: The Advisory Committee will convene its first meeting in the Large Conference Room of the Main Department Building, 1500 Pennsylvania Avenue, NW., Washington, DC. The public is invited to submit written statements with the Advisory Committee by any of the following methods:

Electronic Statements

• Please use the following e-mail address to submit electronic copies of your written statements: SED.TYF@do.treas.gov.

Paper Statements

• Send paper statements in triplicate to Advisory Committee on the Ten-Year Framework for Energy and Environment, Office of the Special Envoy to China and the SED, Room 1308, Department of Treasury, 1500 Pennsylvania Avenue, NW., Washington, DC 20220.

In general, the Department will also make such statements available for public inspection and copying in the Department's Library, Room 1428, Main Department Building, 1500 Pennsylvania Avenue, NW., Washington, DC 20220, on official business days between the hours of 10 a.m. and 5 p.m. Eastern Time. You can make an appointment to inspect statements by telephoning (202) 622-0990. All statements, including attachments and other supporting materials, received are part of the public record and subject to public disclosure. You should submit only information you wish to make available publicly.

FOR FURTHER INFORMATION CONTACT: Casey Delhotal, Environmental and Economic Policy Advisor to the SED, Department of Treasury, 1500 Pennsylvania Avenue, NW., Washington, DC 20220, at (202) 622-6780.

SUPPLEMENTARY INFORMATION: In accordance with section 10(a) of the Federal Advisory Committee Act, 5 U.S.C. App. II, section 10(a), and the regulations thereunder, Katherine Casey Delhotal, Designated Federal Officer of the Advisory Committee, has ordered publication of this notice that the Advisory Committee will convene its first meeting on Thursday, January 15, 2009, in the Large Conference Room in the Main Department Building, 1500 Pennsylvania Avenue, NW., Washington, DC 20220 beginning at 2:30 p.m. Eastern Time. The meeting will be open to the public. Because the meeting will be held in a secured facility, members of the public who plan to attend the meeting must contact the Office of the Special Envoy to China and the SED at (202) 622-6780, by 5 p.m. Eastern Time on January 7th, 2009, to inform the Department of the desire to attend the meeting and to provide the information that will be required to facilitate entry into the Main Department Building. The purpose of this meeting is to discuss general organizational matters of the Advisory Committee and begin discussing the issues impacting the Ten-Year Framework on Energy and Environment.

Dated: December 22, 2008.
Lindsay Valdeon,
Deputy Executive Secretary, Treasury Department.

[FR Doc. E8-31065 Filed 12-30-08; 8:45 am]

BILLING CODE 4810-25-P